DEPARTMENT OF COMMERCE

Patent and Trademark Office

37 CFR Part 1

[Docket No.: PTO-P-2010-0092]

RIN 0651-AC52

Changes To Implement the Prioritized Examination Track (Track I) of the Enhanced Examination Timing Control Procedures

AGENCY: United States Patent and Trademark Office, Commerce.

ACTION: Final rule; delay of effective and applicability dates.

SUMMARY: On April 4, 2011, the United States Patent and Trademark Office (Office) published a final rule that revises the rules of practice in patent cases to implement a procedure under which applicants may request prioritized examination at the time of filing of an application upon payment of appropriate fees and compliance with certain requirements (Track I final rule). The prioritized examination procedure is the first track (Track I) of a 3-Track examination process designed to provide applicants with greater control over when their nonprovisional utility and plant applications are examined and to promote greater efficiency in the patent examination process. The Track I final rule states that the effective date is May 4, 2011, and that a request for prioritized examination may be submitted with any original utility or plant application filed on or after May 4, 2011. The Office is hereby notifying the public that the Track I final rule effective date and applicability date have been delayed until further notice.

DATES: Effective Date: The effective date for the amendments to 37 CFR 1.17 and 1.102 published at 76 FR 18399, April 4, 2011 (the Track I final rule) is delayed until further notice. The Office will publish a document in the Federal Register announcing the new effective date.

Applicability date: No request for prioritized examination will be accepted until further notice.

FOR FURTHER INFORMATION CONTACT: Eugenia A. Jones, Kathleen Kahler Fonda, or Michael T. Cygan, Office of Patent Legal Administration, Office of the Associate Commissioner for Patent Examination Policy, by telephone at (571) 272-7727, (571) 272-7754 or (571) 272-7700, or by mail addressed to: Mail Stop Comments Patents, Commissioner for Patents, P.O. Box 1450, Alexandria, VA 22313-1450, marked to the attention of Eugenia A. Jones.

SUPPLEMENTARY INFORMATION: On April 4, 2011, the Office published a final rule that revises the rules of practice in patent cases to implement a procedure under which applicants may request prioritized examination at the time of filing of an application upon payment of appropriate fees and compliance with certain requirements (Track I final rule). See Changes to Implement the Prioritized Examination Track (Track I) of the Enhanced Examination Timing Control Procedures, 76 FR 18399 (Apr. 4, 2011). The Office set an aggregate goal for the prioritized examination procedure of providing a final disposition within twelve months of prioritized status being granted. See Changes to Implement the Prioritized Examination Track (Track I) of the Enhanced Examination Timing Control Procedures, 76 FR at 18401. The Office, however, has found it necessary to revise its patent examiner hiring plan due to funding limitations. The revised hiring plan does not permit the Office to hire new examiners. With the current level of resources, the Office will not be able to meet the twelve-month pendency goal in prioritized examination applications without impacting the non-prioritized examination applications at this time. Therefore, the Office is delaying the effective date and applicability date of the Track I final rule until further notice. When the funding limitations are resolved, the Office will issue a subsequent notice identifying a revised effective date and applicability date on which the final rule shall apply.

Dated: April 25, 2011.
David J. Kappos,
Under Secretary of Commerce for Intellectual Property and Director of the United States Patent and Trademark Office.

[FR Doc. 2011-10376 Filed 4-28-11; 8:45 am]

BILLING CODE 3510-16-P